DEPARTMENT OF TRANSPORTATION

Federal Aviation Administration

RTCA Special Committee 206: Aeronautical Information Services Data Link

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held on October 11-14, 2005 from 9 a.m. to 5 p.m.

ADDRESSES: The meeting will be held at RTCA, Inc., Colson Board Room, 1828 L Street, NW., Suite 805, Washington, DC, 20036-5133.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act (Pub. L. 92-463. 5 U.S.C., Appendix 2), notice is hereby given for a Special Committee 206 meeting. The agenda will include:

• October 11:

• Opening Session (Welcome, Introductory and Administrative Remarks, Review Agenda, Announcement of Sub Chairs, Review Terms of Reference).

• Discussion.

• Presentations.

• Doug Arbuckle: 3-3:15 p.m. The JPDO's 2025 Concept for the Next Generation Air Transportation System.

• Ernie Dash: Cockpit Use of NEXRAD; Base Reflectivity vs. Composite Reflective.

• David Helms: World Meteorological Organization's AMDAR Program.

• Others—as approved.

• Break Out:

• Subgroup 1—Weather Data Link.

• Subgroup 2—NOTAMs and AIS Data Link.

• Re-convene Plenary, as determined by the Leadership.

• October 12-13:

• Subgroup 1 and 2 meetings.

• October 14:

• Subgroup 1 and 2 meetings.

• Re-convene Plenary, Subgroup Report outs:

• Subgroup 1—Weather Data Link.

• Subgroup 2—NOTAMs and AIS Data Link.

• Closing Session (Other Business, Data and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 14, 2005.
Natalie Ogletree,
FAA General Engineer, RTCA Advisory Committee.

[FR Doc. 05-18809 Filed 9-20-05; 8:45 am]

BILLING CODE 4910-13-M